DEPARTMENT OF HEALTH AND HUMAN SERVICES

Health Resources and Services Administration

Children's Hospitals Graduate Medical Education (CHGME) Program Conference

AGENCY: Health Resources and Services Administration, HHS.

ACTION: Correction.

In notice document 00-15901 appearing on page 39151 in the issue of Friday, June 23, 2000, make the following correction:

On page 39151, in the first column, in the first paragraph, fourteen lines down, the second to last sentence should read as follows:

“To do so, dial: 800-545-4387, then enter the access code ID # M31053, or 700-991-1738 (for Federal Government employees), then enter the access code ID # 28353.”

Dated: June 29, 2000.
Jane M. Harrison,
Director of Policy Review and Coordination.

[FR Doc. 00-16865 Filed 6-30-00; 8:45 am]

BILLING CODE 4160-15-P